DEPARTMENT OF HOMELAND SECURITY

Coast Guard

33 CFR Part 165

[Docket No. USCG-2011-1159]

RIN 1625-AA87

Security Zone; Passenger Vessel SAFARI EXPLORER Arrival/Departure, Kaunakakai Harbor, Molokai, HI

AGENCY: Coast Guard, DHS.

ACTION: Temporary interim rule; reopening of comment period.

SUMMARY: The Coast Guard is reopening the comment period for the temporary interim rule that established a temporary security zone for Kaunakakai Harbor, including the entrance channel and offshore area adjacent to the channel's entrance during the arrival and departure of the Passenger Vessel Safari Explorer in Kaunakakai Harbor, Molokai, Hawaii. The effective period for this temporary security zone began on January 19, 2012 and ends on May 15, 2012. The Coast Guard held informal public meetings regarding the interim rule. Following the public meetings, the Coast Guard prepared a written synopsis of the public comments received at the public meetings. This synopsis may be viewed at http://www.regulations.gov under docket number USCG-2011-1159. During this additional comment period, the Coast Guard invites comments on how the temporary interim rule can be improved.

DATES: The Coast Guard will consider all comments that we receive on or before May 7, 2012.

ADDRESSES: You may submit written comments identified by docket number USCG-2011-1159 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. Our online docket for this rulemaking is available on the Internet at http://www.regulations.gov under docket number USCG-2011-1159.

FOR FURTHER INFORMATION CONTACT: If you have questions concerning the meeting or the proposed rule, please call or email Lieutenant Commander Scott Whaley, U.S. Coast Guard; telephone 808-522-8264, email Scott.O.Whaley@uscg.mil. If you have questions on viewing or submitting material to the docket, call Renee V. Wright, Program Manager, Docket Operations, telephone 202-366-9826.

SUPPLEMENTARY INFORMATION: On January 13, 2012, we published in the Federal Register (77 FR 2019), a temporary interim rule that established a temporary security zone for Kaunakakai Harbor, including the entrance channel and offshore area adjacent to the channel's entrance during the arrival and departure of the Passenger Vessel Safari Explorer in Kaunakakai Harbor, Molokai, Hawaii. Comments on the interim rule were required to be received on or before February 3, 2012. We are reopening the comment period on Docket No. 2011-1159. This action will allow interested persons additional time to review and submit comments on the synopsis of comments that the Coast Guard prepared based on the comments received during public meetings. We will consider comments received on or before May 7, 2012.

Dated: April 6, 2012.
J.M. Nunan,
Captain, U.S. Coast Guard, Captain of the Port Honolulu.

[FR Doc. 2012-9718 Filed 4-23-12; 8:45 am]

BILLING CODE 9110-04-P